DEPARTMENT OF HEALTH AND HUMAN SERVICES

National Institutes of Health

National Cancer Institute Notice of Meeting

Pursuant to section 10(a) of the Federal Advisory Committee Act, as amended (5 U.S.C. App.), notice is hereby given of a meeting of the National Cancer Institute Board of Scientific Advisors.

The meeting will be open to the public, with attendance limited to space available. Individuals who plan to attend and need special assistance, such as sign language interpretation or other reasonable accommodations, should notify the Contact Person listed below in advance of the meeting.

Name of Committee: National Cancer Institute Board of Scientific Advisors; caBIG® Oversight Ad hoc Subcommittee.

Date: July 25, 2011.

Time: 12 p.m. to 4 p.m.

Agenda: Evaluation of Scientific Merit of caBIG® program, ongoing and planned initiatives.

Place: Hilton Chicago O'Hare, Hilton Chicago O'Hare International Airport, Terminal 3, Access Road 5, Room 2051, Chicago, IL 60666.

Contact Person: John Czajkowski, MPA, Deputy Director for Management, Office of the Director, National Cancer Institute, National Institutes of Health, 31 Center Drive, Rm. 11A48, Bethesda, MD 20892, 301-435-2455, john.czajkowski@nih.gov.

Any interested person may file written comments with the committee by forwarding the statement to the Contact Person listed on this notice. The statement should include the name, address, telephone number and when applicable, the business or professional affiliation of the interested person.

Information is also available on the Institute's/Center's home page: http://deainfo.nci.nih.gov/advisory/bsa.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: June 30, 2011.
Jennifer S. Spaeth,
Director, Office of Federal Advisory Committee Policy.

[FR Doc. 2011-17075 Filed 7-6-11; 8:45 am]

BILLING CODE 4140-01-P